TENNESSEE VALLEY AUTHORITY

Meeting of the Regional Resource Stewardship Council

AGENCY: Tennessee Valley Authority (TVA).

ACTION: Notice of meeting.

SUMMARY: The TVA Regional Resource Stewardship Council (RRSC) will hold a meeting on Thursday, October 29, and Friday, October 30, 2009, to consider various matters.

The RRSC was established to advise TVA on its natural resource stewardship activities. Notice of this meeting is given under the Federal Advisory Committee Act, 5 U.S.C. App. 2, (FACA).

The management of the Tennessee Valley reservoirs and the lands adjacent to them has long been integral components of TVA's mission. As part of implementing the TVA Environmental Policy, TVA is developing a Natural Resource Plan (NRP) and Environmental Impact Statement (EIS) under the process established by the National Environmental Policy Act (NEPA) that will help prioritize techniques for the management of TVA's sustainable land use activities, natural resource management activities, and water resource protection and improvement activities. TVA would like to utilize the RRSC as a key stakeholder group throughout the EIS period to advise TVA on the issues, tradeoffs, and focus of environmental stewardship activities. At the October meeting, TVA will be seeking advice from the Council on issues regarding the scope and direction of the study.

TVA will also be seeking recommendations and advice on the NRP objectives and activities that complement the use of public lands with the protection of these natural resources.

The meeting agenda includes the following:

1. Introductions.

2. Informational Items and Project Updates (Kingston Fly Ash Recovery Efforts, Integrated Resource Plan status, and carbon legislation).

3. RRSC Discussion Topic: Natural Resource Plan (e.g. Natural Resource Management, Sustainable Land Use, and Water Protection).

4. Public Comments.

5. Council Discussion and Advice.

The TVA RRSC will hear opinions and views of citizens by providing a public comment session. The public comment session will be held at 10 a.m., EDT, on Friday, October 30. Persons wishing to speak are requested to register at the door by 9 a.m., on Friday, October 30, and will be called on during the public comment period. Handout materials should be limited to one printed page. Written comments are also invited and may be mailed to the Regional Resource Stewardship Council, Tennessee Valley Authority, 400 West Summit Hill Drive, WT-11B, Knoxville, Tennessee 37902.

DATES: The meeting will be held on Thursday, October 29, from, 8 a.m. to 4:30 p.m., and Friday, October 20, from 8 a.m.-12 Noon, EDT.

ADDRESSES: The meeting will be held at the Auditorium of the TVA Headquarters at 400 West Summit Hill Drive, Knoxville, Tennessee 37902, and will be open to the public. Anyone needing special access or accommodations should let the contact below know at least a week in advance.

FOR FURTHER INFORMATION CONTACT: Beth Keel, 400 West Summit Hill Drive, WT-11B, Knoxville, Tennessee 37902, (865) 632-6113.

Dated: October 6, 2009.
Anda A. Ray,
Senior Vice President, Office of Environment and Research, Tennessee Valley Authority, WT 11A-K.

[FR Doc. E9-24588 Filed 10-9-09; 8:45 am]

BILLING CODE 8120-08-P